DEPARTMENT OF ENERGY

Federal Energy Regulatory Commission

[Docket Nos. CP05-130-000; CP05-132-000; CP05-131-000; Corps Application # CENAB-OP-RMS200565510-4]

U.S. Army Corps of Engineers, Baltimore District; Dominion Cove Point LNG, LP; Dominion Transmission, Inc; Notice of Availability of the Draft Environmental Impact Statement, Draft General Conformity Determination, and U.S. Army Corps Of Engineers Public Notice for the Proposed Cove Point Expansion Project

October 28, 2005.

The staff of the Federal Energy Regulatory Commission (FERC or Commission) in cooperation with the U.S. Army Corps of Engineers (Corps) and U.S. Coast Guard, (Coast Guard) has prepared a draft Environmental Impact Statement (EIS) for a liquefied natural gas (LNG) import terminal expansion and natural gas pipeline facilities proposed by Dominion Cove Point LNG, L.P. and Dominion Transmission, Inc. (collectively referred to as Dominion) in the above-referenced dockets. The draft EIS was prepared to satisfy the requirements of the National Environmental Policy Act (NEPA). The draft EIS addresses federally listed species, cultural resources, and essential fish habitat issues. A draft General Conformity Determination was also prepared by the FERC to assess the potential air quality impacts associated with construction and operation of the proposed project and is included as Appendix H of the draft EIS.

The FERC staff concludes that approval of the proposed project with appropriate mitigating measures, as recommended, would have limited adverse environmental impact.

This is a joint public notice by the FERC and Corps to advertise:

• The availability of the draft EIS;

• The scheduling of the joint FERC public meetings/Corps public hearings on December 7 and 8th, 2005; and

• The submission of a Department of the Army permit application CENAB-OP-RMS (Dominion Cove Point LNG, LP) 200565510-4.

The draft EIS addresses the potential environmental effects of the construction and operation of the following LNG terminal and natural gas (steel) pipeline facilities:

• Two new 160,000 cubic meter single containment LNG storage tanks;

• Additional vaporization capacity consisting of shell and tube vaporizers and associated equipment;

• Additional power generation equipment consisting of two 21.7 megawatt gas turbine generators and three emergency generators;

• Infrastructure associated with the LNG terminal expansion including roads and storage and work areas at the existing site;

• About 47.8 miles of 36-inch-diameter, loop pipeline in Calvert, Prince Georges, and Charles County, Maryland (TL-532 Pipeline);

• Ancillary areas for pipeline construction, including access roads, staging areas, and work spaces;

• About 81 miles of 24-inch-diameter pipeline lateral in Juniata, Mifflin, Huntingdon, Centre, and Clinton Counties, Pennsylvania (PL-1 EXT2 Pipeline);

• Two new compressor stations in Juniata County (Perulack Station) and Centre County (Centre Relay Station), Pennsylvania;

• About 11 miles of 24-inch diameter pipeline loop in Wetzel County West Virginia and Greene County, Pennsylvania (TL-492 EXT3 Pipeline);

• About 12 miles of 24-inch-diameter pipeline loop in Potter County, Pennsylvania (TL-453 EXT1 Pipeline);

• About 10 miles of 20-inch-diameter pipeline loop in Potter County, Pennsylvania (TL-536 Pipeline);

• Replacement of about 0.6 mile and pressure testing and possible replacement of about 0.4 mile of 30-inch-diameter pipeline in Franklin County, Pennsylvania (PL-1 Pipeline Pressure Restoration Sites);

• Minor modifications to the existing Loudoun Measuring and Regulating (M&R) Station in Loudoun County, Virginia;

• About 5,000 hp of additional compression at the existing Mockingbird Hill Compressor Station in Wetzel County, West Virginia;

• Minor modifications to the existing Leesburg Compressor Station in Loudoun County, Virginia;

• Minor modifications to the existing Chambersburg Compressor Station in Franklin County, Pennsylvania;

• Additional facilities and pipeline replacement at the existing Leidy M&R Station located at the Leidy Hub complex in Clinton County, Pennsylvania;

• About 3,550 hp of additional compression at Dominion's previously approved but not yet constructed Wolf Run Compressor Station in Lewis County, West Virginia; and

• Minor modifications to Dominion's previously approved but not yet constructed Quinlan Compressor Station in Cattaraugus County, New York.

Dominion's proposed LNG terminal expansion would increase the send-out capability by 800,000 Dth/d and increase the storage capacity by 6.8 MMDth/d. Dominion's proposed pipeline and related facilities in Maryland and Virginia would allow it to deliver an additional 800,000 Dth/d from its LNG terminal to its connections with other interstate pipelines. Dominion's proposed pipelines and related facilities in Pennsylvania, West Virginia, and New York would allow it to transport an additional 700,000 Dth/d to various delivery points on its system, and offer a new underground storage service of 6.0 MMDth, with an additional demand of 100,000 Dth/d.

Dominion Cove Point LNG,LP has applied, concurrently, to the Corps for a Department of the Army Individual permit pursuant to Section 404 of the Clean Water Act (33 U.S.C. 1344) and Section 10 of the Rivers and Harbors Act of 1899 (33 U.S.C. 403) for proposed structures in and under navigable waters and the discharge of dredged, excavated, and/or fill material into waters of the United States, including wetlands to construct the preferred alternative identified in the draft EIS. The decision whether to issue the permits will be based on an evaluation of the probable impacts, including cumulative impacts, of the proposed projects on the public interest. The decision will reflect the national concern for the protection and utilization of important resources. The benefits, which would be reasonably expected to accrue from the proposed projects, must be balanced against its reasonably foreseeable detriments. All factors, which may be relevant to the proposed work, will be considered, including the cumulative effects thereof; among those are conservation, economics, aesthetics, general environmental concerns, wetlands, cultural values, fish and wildlife values, flood hazards, floodplain values, land use, navigation, shore erosion and accretion, recreation, water supply, and conservation, water quality, energy needs, safety, food and fiber production, consideration of property ownership, and in general, the needs and welfare of the people. The Corps is soliciting comments from the public; Federal, State, and local agencies and officials; Indian tribes; and other interested parties in order to consider and evaluate the impacts of the proposed project. Any comments received will be considered by the Corps to determine whether to issue, modify, condition or deny a permit for the proposal. To make this decision, the Corps uses comments received to access impacts on endangered species, historic properties, water quality, general environmental effects, and the other public interest factors listed above.

The evaluation of the impact of the work described above on the public interest will also include application, by the Corps, of the guidelines [Section 404(b)(1)] promulgated by the Administrator, U.S. Environmental Protection Agency, under authority of Section 404 of the Clean Water Act.

For Corps permitting purposes, if applicable, the applicant is required to obtain a Water Quality Certification in accordance with Section 401 of the Clean Water Act from the Maryland Department of the Environment (MDE), the Pennsylvania Department of Environmental Protection, and the State of West Virginia Division of Environmental Protection. The Section 401 certifying agencies have a statutory limit of one year in which to make their decisions. Additionally, for Corps permitting purposes, the applicant is required to obtain Coastal Zone Management Consistency concurrence from the MDE, as well. It should be noted that the MDE has a statutory limit of 6 months in which to make its consistency determination.

Joint FERC Public Meetings/Corps Public Hearings are held to provide interested individuals with the opportunity to present information about the effects of the project, including its social, economic and environmental effects. These meetings/hearings provide the opportunity for interested parties to present views, opinions, and information that will be considered by the FERC and the Corps in evaluating the proposed project.

The U.S. Coast Guard (Coast Guard) within the U.S. Department of Homeland Security is also participating as a cooperating agency in the preparation of the EIS because it exercises regulatory authority over LNG facilities that affect the safety and security of port areas and navigable waterways under Executive Order 10173; the Magnuson Act (50 U.S.C. section 191); the Ports and Waterways Safety Act of 1972, as amended (33 U.S.C. 1221, et seq.); and the Maritime Transportation Security Act of 2002 (46 U.S.C. section 701). The Coast Guard also has authority for LNG facility plan review, approval and compliance verification as provided in Title 33 CFR part 105, and siting as it pertains to the management of vessel traffic in and around the LNG facility. As required by its regulations, the Coast Guard is responsible for issuing a Letter of Recommendation (LOR) as to the suitability of the waterway for LNG marine traffic. The Coast Guard plans to adopt the EIS if it adequately covers the impacts associated with issuance of the LOR.

Comment Procedures and FERC Public Meetings/Corps Public Hearings

Any person wishing to comment on the draft EIS may do so. To ensure consideration prior to a Commission decision on the proposal, it is important that we receive your comments before the date specified below. Please carefully follow these instructions to ensure that your comments are received and properly recorded:

• Send an original and two copies of your comments to: Magalie R. Salas, Secretary, Federal Energy Regulatory Commission, 888 First Street, NE., Room 1A, Washington, DC 20426.

• Reference Docket Nos. CP05-130-000, CP05-131-000, and CP05-132-000.

• Label one copy of the comments for the attention of the Gas Branch 1.

• Mail your comments so that they will be received in Washington, DC on or before December 21, 2005.

Please note that the Commission strongly encourages electronic filing of any comments or interventions to this proceeding. See 18 CFR 385.2001(a)(1)(iii) and the instructions on the Commission's Web site at http://www.ferc.gov under the “e-Filing” link and the link to the User's Guide. Before you can file comments, you will need to create a free account, which can be created by clicking on “Login to File” and then “New User Account.”

The Corps public hearings provide members of the public the opportunity to present views, opinions, and information which will be considered by the Corps in evaluating the Department of the Army permit. All comments received will become part of the formal project record.

Copies of any written statements expressing concern for aquatic resources may be submitted to: Mrs. Kathy Anderson, Corps of Engineers, CENAB-OP-RMS, P.O. Box 1715, Baltimore, Maryland 21203-1715.

The Corps public hearing comment period closes on December 21, 2005.

In addition to or in lieu of sending written comments, we invite you to attend one of the FERC public meetings/Corps public hearings we have scheduled as follows:

Wednesday, December 7, 2005: 7 p.m. (EST), Old Courthouse, 1 Market Street, Lewistown, PA 17044. (717) 248-6733.

Thursday, December 8, 2005: 7 p.m. (EST), Penn Stater Conference Center Hotel, 215 Innovation Boulevard, State College, PA 16803. (814) 863-5000.

Wednesday, December 7, 2005: 7 p.m. (EST), Holiday Inn—Solomons, 155 Holiday Drive, Solomons, MD 20688. (410) 326-6311.

Thursday, December 8, 2005: 7 p.m. (EST), Holiday Inn—Waldorf, U.S. 301 and St. Patrick's Drive, Waldorf, MD 20603. (301) 645-8200.

Interested groups and individuals are encouraged to attend and present oral comments on the draft EIS. Transcripts of the meetings will be prepared.

After these comments are reviewed, any significant new issues are investigated, and modifications are made to the draft EIS, a final EIS will be published and distributed by the staff. The final EIS will contain the staff's responses to timely comments received on the draft EIS.

Comments will be considered by the Commission but will not serve to make the commentor a party to the proceeding. Any person seeking to become a party to the proceeding must file a motion to intervene pursuant to Rule 214 of the Commission's Rules of Practice and Procedures (18 CFR 385.214). Anyone may intervene in this proceeding based on this draft EIS. You must file your request to intervene as specified above.¹ You do not need intervenor status to have your comments considered.

¹ Interventions may also be filed electronically via the Internet in lieu of paper. See the previous discussion on filing comments electronically.

The draft EIS has been placed in the public files of the FERC and is available for distribution and public inspection at: Federal Energy Regulatory Commission, Public Reference Room, 888 First Street, NE., Room 2A, Washington, DC 20426, (202) 208-1371.

Hard-copies of the draft EIS have been mailed to Federal, State, and local agencies; public interest groups; individuals and affected landowners who requested a copy of the draft EIS or provided comments during scoping; libraries; newspapers; and parties to this proceeding. In the alternate, those persons or organizations who were identified as potential stakeholders on this environmental mailing list are receiving an Executive Summary document and a full version of the draft EIS on CD-ROM. A limited number of documents and CD-ROMs are available from the Public Reference Room identified above. In addition, hard-copies of the document are also available for reading at public libraries along the proposed project route.

To reduce printing and mailing costs the final EIS will be issued in both CD-ROM and hard-copy formats. In a separate mailing, the parties on the current mailing list for the draft EIS will be sent a postcard providing an opportunity for them to select which format of the final EIS they wish to receive. The FERC strongly encourages the use of the CD-ROM format in its publication of large documents. If you wish to receive a paper copy of the final EIS instead of a CD-ROM, you must return the postcard indicating that choice.

Additional information about the project is available from the Commission's Office of External Affairs, at 1-866-208-FERC or on the FERC Internet Web site (www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site Folialso provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

It is requested that you communicate the foregoing information concerning the proposed work to any persons known by you to be interested and not being known to this office, who did not receive a copy of this notice.

Magalie R. Salas,
Secretary.

[FR Doc. E5-6116 Filed 11-3-05; 8:45 am]

BILLING CODE 6717-01-P